DEPARTMENT OF ENERGY

Federal Energy Regulatory Commission

[Docket No. GT02-37-000]

PG&E Gas Transmission, Northwest Corporation; Notice of Tariff Filing

August 28, 2002.

Take notice that on August 21, 2002, PG&E Gas Transmission, Northwest Corporation (GTN) tendered for filing to be part of its FERC Gas Tariff, Second Revised Volume No. 1-A certain tariff sheets as listed in Appendix A to the filing.

GTN indicates that these tariff sheets are being submitted in order to (1) modify GTN's Tariff to provide for the termination of a shipper's contract for failure to pay and (2) to address how temporary replacement shippers will be affected in the event a releasing shipper's contract is terminated. GTN requests an effective date of October 1, 2002 for these tariff sheets.

GTN states further that a copy of this filing has been served on GTN's jurisdictional customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-22297 Filed 8-30-02; 8:45 am]

BILLING CODE 6717-01-P